DEPARTMENT OF COMMERCE

Census Bureau

Proposed Information Collection; Comment Request; 2004 Census Test

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(C)(2)(A)).

DATES: Written comments must be submitted on or before September 9, 2003.

ADDRESSES: Direct all written comments to Diana Hynek, Departmental Paperwork Clearance Officer, Room 6625, 14th and Constitution Avenue, NW., Washington, DC 20230 (or via the Internet at dhynek@doc.gov).

FOR FURTHER INFORMATION CONTACT: Requests for additional information or copies of the information collection instruments and instructions should be directed to Edison Gore, U.S. Census Bureau, Building 2, Room 2012, Washington, DC 20233-9200, 301-763-3998.

SUPPLEMENTARY INFORMATION:

I. Abstract

The 2004 Census Test is part of an extended test cycle leading up to the next decennial census. This testing cycle is an opportunity to evaluate new methods, procedures, systems, questions, and instructions designed to improve coverage and data quality in order to select the most promising ones for use in Census 2010.

The test will be conducted in two sites—Queens, NY, and three rural counties in Georgia (Colquitt, Tift, and Thomas)—and will use two modes for data collection (paper and a Mobile Computing Device [MCD]). The 2004 Census Test will include an array of data collection, data capture, and data processing operations along with the associated support activities necessary for obtaining the data required for evaluation. No prototype data products or counts will be published.

The Census Bureau also will conduct a two-part assessment (the Race and Hispanic/Latino Response Evaluation) in conjunction with the 2004 Census Test. In the first part of the assessment, enumerator taping assistants (ETAs) will accompany enumerators during Nonresponse Followup ([NRFU]—See Definition of Terms) in order to record enumerator behavior and respondent reaction to the race and Hispanic questions. The second part will consist of telephone re-interviews. The Race and Hispanic/Latino Response Evaluation is scheduled to begin during the NRFU phase of the 2004 Census Test.

Our experience in Census 2000 taught us important lessons emphasizing the need to begin planning and development early in the decade. Consequently, the Census Bureau established a number of Census 2010 Planning Groups to investigate potential changes for the next decennial census. As part of the development cycle, the 2004 Census Test will evaluate the effectiveness of:

1. Methodological innovations (e.g., changes in the residence rule instructions—See Definition of Terms),

2. Content modifications (e.g., changes in the race and Hispanic origin questions and response categories, as well as dropping the “Some other race” option), and

3. Incorporation of evolving technologies (using an MCD for data collection during NRFU).

The Race and Hispanic/Latino Response Evaluation is intended to evaluate personal visit respondent reactions to removing the “Some other race” category. The primary vehicle for this evaluation will combine the ETA interviews taped as part of the personal visits during 2004 NRFU with the 2003 National Census Test results.

Approximately 175,000 housing units in the test sites will receive a census form by mail. These housing units are expected to complete these forms and mail them back (mailout/mailback universe, i.e. housing units that have city-style addresses such as 806 Main Street). Additionally, enumerators will deliver a form to approximately 25,000 housing units that have non city-style addresses such as Rt. 7, Box 433. These housing units are asked to complete the forms and mail them back (update/leave universe).

Beginning in June 2004, a sample of approximately 2,800 households in the Queens, NY site will be re-interviewed via telephone for the Hispanic/Latino Response Evaluation. (Although the Behavior Coding segment of the test will involve about 2,000 households, it will not involve an increase in respondent burden, since the coding will be done as the NRFU interview is conducted.)

II. Method of Collection

Prior to receiving the 2004 questionnaire, each housing unit included in the test will be mailed an advance letter informing respondents that they will soon receive a census form. A few days after the questionnaire packages are delivered, each household will receive a reminder postcard that asks respondents to fill out and return their questionnaires, if they have not already done so. The postcard also will thank respondents who have already returned their forms.

Census Day is scheduled for April 1, 2004. About 10 days after that date, each household in the mailout/mailback universe that did not return the initial form will receive a replacement questionnaire. After respondents have had a chance to complete and return their forms, enumerators will visit each housing unit that has not responded (NRFU). NRFU is scheduled to begin approximately three weeks after Census Day. Enumerators will use handheld MCDs rather than paper questionnaires for data collection during NRFU.

Although the 2004 mailback form is similar to the Census 2000 short form in both content and format, there are several significant differences. These include revised wording for residence rules instructions; the addition of two coverage questions; a revised race question that eliminates the “Some other race” option; revisions in wording in the Hispanic origin question; and a format that allows a respondent to record information for up to 12 household members.

Completing the paper questionnaire and responding to the questions again during the telephone section of the Race and Hispanic/Latino Response Evaluation will take approximately 10 minutes. Preliminary research indicates enumerator-filled forms (data collected using MCDs during NRFU) also will take about 10 minutes. All data capture operations will be conducted at the Census Bureau's National Processing Center (NPC) located in Jeffersonville, Indiana.

In order to conduct the 2004 Census Test, we hope to create content and wording that will allow data collection using the MCDs to be comparable to other modes of response. The Census Bureau is designing software for handheld devices that is intended to incorporate both Spanish and English language capabilities and that will result in MCDs that will be easy for enumerators to use.

The goal of the two-part Race and Hispanic/Latino Response Evaluation is to understand how changes to the Race and Hispanic origin questions affect response behavior. The evaluation will study missing data rates, NRFU response distributions, and behavior coding data gathered in the process of conducting some NRFU interviews.

The Behavior Coding section of the test will involve taping and coding the behavior of about 2,000 enumerators and respondents during the NRFU personal visit interviews in the Queens, NY site. An ETA who accompanies each enumerator will record the selected interviews using a handheld recorder. ETAs will be trained to use basic interviewing techniques, operate the recorder, and take notes on respondent and interviewer behavior during the interview. Behavior coding is intended to provide data about respondents' verbal reaction to the race and Hispanic origin question as well as information about interviewer behavior while asking these questions. These interviews will be conducted and voice-recorded with the respondent's permission.

The second section of the Race and Hispanic/Latino Response Evaluation—Re-interview Follow-up—also is restricted to the Queens, NY site. The 2004 Census Test questionnaire will be administered to selected respondents after the NRFU visit. We will re-administer the 2004 Census Test questionnaire by telephone in order to evaluate the response distribution of the race question. The resulting response distribution is intended to provide information for evaluating the effect of changes in the race and Hispanic origin questions and response categories, as well as dropping the “Some other race” option.

Employees from the NPC will contact a sample of approximately 2,800 households to re-administer the 2004 questionnaire beginning in June 2004. Data gathered as a result of these interviews will be processed at NPC. The goal for this segment of the Race and Hispanic/Latino Response Evaluation is 2,000 completed interviews.

Definition of Terms

Residence Rules—Rules that respondents and the Census Bureau use to determine where people should be counted. They are meant to insure that everyone is counted once and in the right place for the primary purposes of apportionment.

Nonresponse Followup (NRFU)—An operation developed to obtain completed questionnaires from housing units for which the Census Bureau did not receive a completed questionnaire in mail census areas (mailout/mailback, update/leave, and urban update/leave). Enumerators visit addresses to collect the information.

III. Data

OMB Control Number: None.

Form Number(s): DB-1 (2004 Census Test).

Type of Review: Regular.

Affected Public: Individuals and households.

Estimated Number of Respondents: Approximately 200,000 households for the 2004 Census Test. Approximately 2,800 households for Race and Hispanic/Latino Response Evaluation.

Estimated Time Per Response: 10 minutes.

Estimated Total Annual Burden Hours: 33,800.

Estimated Total Annual Cost: There is no cost to respondents except for their time to respond.

Respondent Obligation: Mandatory.

Legal Authority: Title 13 of the United States Code, sections 141 and 193.

IV. Request for Comments

Comments are invited on: (a) Whether the proposed collection of information is necessary for the proper performance of the functions of the agency, including whether the information shall have practical utility; (b) the accuracy of the agency's estimate of the burden (including hours and cost) of the proposed collection; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 7, 2003.
Gwellnar Banks,
Management Analyst, Office of the Chief Information Officer.

[FR Doc. 03-17545 Filed 7-10-03; 8:45 am]

BILLING CODE 3510-07-P